DEPARTMENT OF THE INTERIOR

National Park Service

Notice of Inventory Completion for Native American Human Remains and Associated Funerary Objects From Madison and Oneida Counties, NY in the Possession of the Rochester Museum and Science Center, Rochester, NY

AGENCY: National Park Service.

ACTION: Notice.

Notice is hereby given in accordance with provisions of the Native American Graves Protection and Repatriation Act (NAGPRA), 43 CFR 10.9, of the completion of an inventory of human remains and associated funerary objects from Madison County, NY in the possession of the Rochester Museum and Science Center, Rochester, NY.

A detailed assessment of the human remains was made by Rochester Museum and Science Center professional staff in consultation with representatives of the Cayuga Nation of New York, the Oneida Nation of New York, the Oneida Tribe of Wisconsin, the Onondaga Nation of New York, the Seneca Nation of New York, the Seneca-Cayuga Tribe of Oklahoma, the St. Regis Band of Mohawk Indians of New York, the Stockbridge-Munsee Community of Mohican Indians of Wisconsin, the Tonawanda Band of Seneca Indians of New York, and the Tuscarora Nation of New York.

At an unknown date, human remains representing two individuals were recovered from the Deraway site (Msv 005) near Stockbridge, Madison County, NY by person(s) unknown. In 1979, these human remains were donated to the Rochester Museum and Science Center by Gilbert Hagerty. No known individuals were identified. The six associated funerary objects include blanket fragments, chert flakes, and a perforated cut brass fragment.

Based on skeletal morphology and the associated funerary objects, these individuals have been identified as Native American. Based on site location and continuities of material culture, the Deraway site has been identified as an Oneida occupation dating to c. 1696-1720 A.D.

At an unknown date, human remains representing 16 individuals were recovered from the Quarry site (Msv 004) near Stockbridge, Madison County, NY by person(s) unknown. In 1979, these human remains were donated to the Rochester Museum and Science Center by Gilbert Hagerty. No known individuals were identified. The 39 associated funerary objects include a chert chunk, brass fragments, a brass bead, a shell claw pendant, cut bone, charred maize kernels, and pottery sherds.

Based on the associated funerary objects and skeletal morphology, these individuals have been determined to be Native American. Based on the type of associated funerary objects, site location, and condition of the human remains, the Quarry site has been identified as an Oneida occupation dating to c. 1640-1650 A.D.

At an unknown date, human remains representing three individuals were recovered from the Sullivan site (Ond 003) near Stockbridge, Madison County, NY by person(s) unknown. In 1979, these human remains were donated to the Rochester Museum and Science Center by Gilbert Hagerty. No known individuals were identified. No associated funerary objects are present.

Based on skeletal morphology, these individuals have been identified as Native American. Based on excavation reports, site location, condition of the human remains, and continuities of material culture, the Sullivan site has been identified as an Oneida occupation dating to c. 1660-1677 A.D.

At an unknown date, human remains representing three individuals were recovered from the Thurston site (Msv 001), Eaton Township, Madison County, NY by Herbert Bigford, who donated these human remains to the Rochester Museum and Science Center in 1945. No known individuals were identified. No associated funerary objects are present.

Based on skeletal morphology, these individuals have been identified as Native American. Based on site location and continuities of material culture, the Thurston site has been identified as an Oneida occupation dating to c. 1625-1637 A.D.

At an unknown date, human remains representing one individual were recovered from the Sterling site, in Verona, Madison County, NY by person(s) unknown. In 1979, these human remains were donated to the Rochester Museum and Science Center by Gilbert Hagerty. No known individual was identified. No associated funerary objects are present.

Based on skeletal morphology, this individual has been identified as Native American. Based on site location and continuities of material culture, the Sterling site has been identified as an Oneida occupation dating to c. 1750-10.21767 A.D.

Based on the above mentioned information, officials of the Rochester Museum and Science Center have determined that, pursuant to 43 CFR 10.2(d)(1), the human remains listed above represent the physical remains of 25 individuals of Native American ancestry. Officials of the Rochester Museum and Science Center have also determined that, pursuant to 43 CFR 10.2(d)(2), the 45 objects listed above are reasonably believed to have been placed with or near individual human remains at the time of death or later as part of the death rite or ceremony. Lastly, officials of the Rochester Museum and Science Center have determined that, pursuant to 43 CFR 10.2(e), there is a relationship of shared group identity which can be reasonably traced between these Native American human remains and associated funerary objects and the Oneida Nation of New York and the Oneida Tribe of Wisconsin.

This notice has been sent to officials of the Cayuga Nation of New York, the Oneida Nation of New York, the Oneida Tribe of Wisconsin, the Onondaga Nation of New York, the Seneca Nation of New York, the Seneca-Cayuga Tribe of Oklahoma, the St. Regis Band of Mohawk Indians of New York, the Stockbridge-Munsee Community of Mohican Indians of Wisconsin, the Tonawanda Band of Seneca Indians of New York, and the Tuscarora Nation of New York. Representatives of any other Indian tribe that believes itself to be culturally affiliated with these human remains and associated funerary objects should contact Connie Bodner, NAGPRA Liaison, Rochester Museum and Science Center, 657 East Avenue, Rochester, NY 14607-2177; telephone: (716) 271-4552, ext. 345, before March 31, 2000. Repatriation of the human remains and associated funerary objects to the Oneida Nation of New York may begin after that date if no additional claimants come forward.

Dated: February 23, 2000.
Francis P. McManamon,
Departmental Consulting Archeologist, Manager, Archeology and Ethnography Program.

[FR Doc. 00-4827 Filed 2-29-00; 8:45 am]

BILLING CODE 4310-70-F